DEPARTMENT OF THE INTERIOR

National Park Service

Information Collection; Request for Extension

AGENCY: National Park Service.

ACTION: Notice.

SUMMARY: In compliance with the Paperwork Reduction Act of 1995, the National Park Service (NPS) is announcing its intention to request an extension of a currently approved collection of information (OMB# 1024-0233) for NPS Leasing Regulations; 36 CFR part 18, concerning the leasing of historic properties as authorized by law.

DATES: Comments on this notice must be received no later than March 22, 2004.

ADDITIONAL INFORMATION OR COMMENTS: Contact Cynthia Orlando, Concession Program Manager, National Park Service, 1849 C Street, NW., (2410), Washington, DC 20240, or 202/513-7144.

SUPPLEMENTARY INFORMATION:

Title: Leasing Regulations—36 CFR part 18.

OMB Control Number: 1024-0233.

Expiration Date of Approval: January 31, 2004.

Type of Request: Extension of a currently approved information collection.

Abstract: The Office of Management and Budget (OMB) regulations as 5 CFR part 1320, which implement provisions of the Paperwork Reduction Act of 1995 (Pub. L. 104-13), require that interested members of the public and affected agencies have an opportunity to comment on information collection and recordkeeping activities (see 5 CFR 1320.8(d)). This notice identifies information collection activities that NPS will submit to OMB for approval. The OMB control number for this collection of information is 1024-0233, and is identified in 36 CFR Section 18. NPS has identified burden estimates based on its experience with concession contracts and on information previously supplied by concessioners or offerors in response to concession prospectuses. NPS will request a 3-year term of approval for this information collection activity.

Bureau Form Number: None.

Frequency of collection: On occasion.

Description of Respondents: Persons or entities seeking a leasing opportunity with the National Park Service.

Estimated Annual Responses: 627.

Estimated Average Burden Hours Per Response: 7.

Estimated Total Annual Burden Hours: 4, 392.

Send comments on (1) the need for the collection of information for the performance of the functions of the agency; (2) the accuracy of the agency's burden estimates; (3) ways to enhance the quality, utility and clarity of the information collection; and (4) ways to minimize the information collection burden on respondents, such as use of automated means of collection of the information. Please refer to OMB control number 1024-0233 in all correspondence. All responses to this notice will be summarized and included in the request for OMB approval. All comments will also become a matter of public record. Copies of the information collection can be obtained from Cynthia L. Orlando, Concession Program Manager, National Park Service, Department of the Interior, 1849 C Street, NW., (2410), Washington, DC 20240.

Dated: December 10, 2003.
Leonard E. Stowe,
Acting, NPS Information Collection Clearance Officer, Washington Administrative Program Center.

[FR Doc. 04-1283 Filed 1-21-04; 8:45 am]

BILLING CODE 4312-53-M